DEPARTMENT OF COMMERCE

Economics and Statistics Administration

Performance Review Board Membership; Correction

SUMMARY: In FR Doc. 01-23281 published on page 48232 in the Federal Register on September 19, 2001, the list of executives eligible to serve on the Economics and Statistics Administration Performance Review Board requires a change to the spelling of one name and the addition of two board members. Change the name of “Brent R. Moton” to read “Brent R. Moulton”, and add the names: Alan C. Lorish and Gloria Gutierrez.

Dated: October 3, 2001.
James K. White,
Associate Under Secretary for Management, Chair, Performance Review Board.

[FR Doc. 01-25377 Filed 10-9-01; 8:45 am]

BILLING CODE 3510-BS-M